DEPARTMENT OF AGRICULTURE

Foreign Agricultural Service

Trade Adjustment Assistance for Farmers

AGENCY: Foreign Agricultural Service, USDA.

ACTION: Notice.

The Administrator, Foreign Agricultural Service (FAS), today terminated the certification of petitions for trade adjustment assistance (TAA) that was filed by salmon producers in Alaska and Washington. Salmon producers in these states are no longer eligible for TAA benefits in fiscal year 2006.

SUPPLEMENTARY INFORMATION: Upon investigation, the Administrator determined that the average salmon prices during the 2004 marketing year was $0.343/pound, which is 85 percent of the base 5-year average price. During that same marketing year, imports declined by 1.4 percent. Therefore, the average price for the most recent marketing year was not less than 80 percent of the average price for the base period and imports were no longer contributing factors for program eligibility.

FOR FURTHER INFORMATION CONTACT: Jean-Louis Pajot, Coordinator, Trade Adjustment Assistance for Farmers, FAS, USDA, (202) 720-2916, e-mail: trade.adjustment@fas.usda.gov.

Dated: October 6, 2005.
A. Ellen Terpstra,
Administrator, Foreign Agricultural Service.

[FR Doc. 05-20836 Filed 10-17-05; 8:45 am]

BILLING CODE 3410-01-P